DEPARTMENT OF ENERGY

Federal Energy Regulatory Commission

Alabama Power Company; Notice of Availability of Environmental Assessment

March 28, 2003.

In accordance with the National Environmental Policy Act of 1969 and the Federal Energy Regulatory Commission's (Commission) regulations, 18 CFR part 380 (Order No. 486, 52 FR 47897), the Office of Energy Projects' staff has prepared an Environmental Assessment (EA) for an application requesting Commission approval to permit Russell Lands, Inc. the use of project lands to renovate a golf course at Willow Point Golf and Country Club located at the Martin Dam Hydroelectric Project. The project is located on the Tallapoosa River in the counties of Coosa, Elmore, and Tallapoosa, Alabama. The Willow Point Golf and Country Club site does not involve federal or tribal lands.

The EA contains staff's analysis of the potential environmental impacts of the proposal and concludes that approval of the proposal would not constitute a major federal action that would significantly affect the quality of the human environment.

A copy of the order, issued on March 28, 2003, and the EA are available for review at the Commission in the Public Reference Room, or it may be viewed on the Commission's Web site at http://www.ferc.gov using the “FERRIS” link. Enter the docket number (prefaced by P-) and excluding the last three digits, in the docket number field to access the document. For assistance, contact FERC Online Support at FERCOnlineSupport@ferc.gov or toll-free at (866) 208-3676, or for TTY, contact (202) 502-8659.

For further information, contact Jean Potvin at (202) 502-8928.

Magalie R. Salas,
Secretary.

[FR Doc. 03-8091 Filed 4-2-03; 8:45 am]

BILLING CODE 6717-01-P